DEPARTMENT OF COMMERCE

National Oceanic and Atmospheric Administration

[I.D. 072706C]

Fisheries of the Caribbean, Gulf of Mexico, and South Atlantic; Snapper-Grouper Fishery Off the Southern Atlantic States

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Scott Baker on behalf of the North Carolina Sea Grant Extension Program. If granted, the EFP would authorize the applicant, with certain conditions, to collect limited numbers of black sea bass in South Atlantic Federal waters off the coast of North Carolina. The purpose of the study is to quantify fish size selectivity by sea bass pot type and determine regulatory discard mortality rates.

DATES: Comments must be received no later than 5 p.m., eastern standard time, on September 18, 2006.

ADDRESSES: Comments on the application may be sent via fax to 727-824-5308 or mailed to: Mark Sramek, Southeast Regional Office, NMFS, 263 13th Avenue South, St. Petersburg, FL 33701. Comments may also be submitted by E-mail. The mailbox address for providing E-mail comments is Black.Sea.Bass@noaa.gov. Include in the subject line of the E-mail document the following text: Comment on NC Sea Grant EFP Application. The application and related documents are available for review upon written request to the address above or the E-mail address below.

FOR FURTHER INFORMATION CONTACT: Mark Sramek, 727-824-5311; fax 727-824-5308; E-mail: Mark.Sramek@noaa.gov.

SUPPLEMENTARY INFORMATION: The EFP is requested under the authority of the Magnuson-Stevens Fishery Conservation and Management Act (16 U.S.C. 1801 et seq.), and regulations at 50 CFR 600.745(b) concerning exempted fishing.

According to the applicant, the North Carolina Sea Grant Extension Program receives federal funding through the National Sea Grant College Program, as well as state appropriations. Through research, education and outreach programs, North Carolina Sea Grant works with individuals, groups, government agencies and businesses to develop an understanding of the state's coastal environment and promote the sustainable use of marine resources.

The proposed collection for scientific research involves activities otherwise prohibited by regulations implementing the Fishery Management Plan for the Snapper-Grouper Fisheries of the South Atlantic Region (FMP).

The applicant requires authorization to harvest and possess black sea bass for scientific research activities during the period from October 1, 2006, through March 31, 2007. Specimens would be collected from Federal waters off the coast of North Carolina during the specified sampling period. Fish would be captured using standard and experimental modification designs to Council-approved sea bass pots used for the harvest of black sea bass in the South Atlantic region.

Three types of sea bass pots would be employed during the study: One standard-type pot constructed of 1.5-inch (3.8-cm) mesh with a 2-inch (5.1-cm) mesh back panel; a second, experimental-type pot constructed entirely of 2-inch mesh (5.1-cm) (both pot types are currently approved by the South Atlantic Fishery Management Council (Council) for commercial fishing for black sea bass); the third, control-type pot constructed entirely of 1.5-inch (3.8-cm) mesh with no escape vents. The purpose of the control-type pot is to provide an indication of the number and range of size classes of black sea bass present at each sample location. To avoid continued fishing activity and subsequent fish mortality in the event of lost pots, all three pot types will include a wire panel affixed with degradable fasteners. Control-type pots, as outlined above, will only be employed as part of this study and will not be utilized during normal commercial fishing operations. The study will employ a randomized fishing location design, or block, of three sea bass pots per block (one control-type, an experimental-type, and standard-type pots) within 10 blocks per trip. Individual pots will be randomly placed approximately 10 to 30 meters apart within each block; a total of 13 sampling trips will be performed from October 1, 2006, through March 31, 2007. All captured fish will be identified by species, measured, and released if undersized. Prior to release, the presence of barotraumatic effects on black sea bass will be recorded. No undersized fish will be retained in this study.

NMFS finds that this application warrants further consideration. Based on a preliminary review, NMFS intends to issue an EFP. Possible conditions the agency may impose on this permit, if it is indeed granted, include but are not limited to: Reduction in the number of sea bass pots to be employed; restrictions on the placement of sea bass pots; prohibition of the harvest of any fish with visible external tags; and specification of locations, dates, and/or seasons allowed for collection of particular fish species. A final decision on issuance of the EFP will depend on a NMFS review of public comments received on the application, consultations with the affected states, the Council, and the U.S. Coast Guard, and a determination that it is consistent with all applicable laws. The applicant requests a 6-month effective period for the EFP.

Authority: 16 U.S.C. 1801 et seq.

Dated: July 28, 2006.
James P. Burgess,
Acting Director, Office of Sustainable Fisheries, National Marine Fisheries Service.

[FR Doc. E6-12411 Filed 8-1-06; 8:45 am]

BILLING CODE 3510-22-S